DEPARTMENT OF THE INTERIOR

Minerals Management Service

Outer Continental Shelf Official Protraction Diagrams

AGENCY: Minerals Management Service, Interior.

ACTION: Availability of revised North American Datum of 1983 (NAD 83) Outer Continental Shelf official protraction diagrams.

SUMMARY: Notice is hereby given that effective with this publication, the following NAD 83-based Outer Continental Shelf Official Protraction Diagrams last revised on the date indicated are the latest documents available. These diagrams are on file and available for information only, in the Alaska OCS Regional Office, Anchorage, Alaska. In accordance with Title 43, Code of Federal Regulations, these diagrams are the basic record of the marine cadastre in the geographic area they represent.

Description | Date
NN03-04 (False Pass) | 01-NOV-2004 (New).
NN03-02 (Cold Bay) | 01-NOV-2004 (New).
NN04-01 (Stepovak Bay) | 01-NOV-2004 (New).
NO04-07 (Chignik) | 01-NOV-2004 (New).
NO04-08 (Sutwik Island) | 01-NOV-2004 (New).
NO04-06 (Ugashik) | 01-NOV-2004 (Revised).
NO04-04 (Naknek) | 01-NOV-2004 (New).
NO04-03 (Hagemeister Island) | 01-NOV-2004 (New).
NO03-04 (Cape Newenham) | 01-NOV-2004 (New).
NO04-01 (Good News) | 01-NOV-2004 (New).

FOR FURTHER INFORMATION CONTACT: Copies of Official Protraction Diagrams may be purchased for $2.00 each from the Minerals Management Service, Alaska OCS Region, 3801 Centerpoint Drive, Suite 500, Anchorage, Alaska 99503, Attention: Library, Telephone: 1-800-762-2627 or (907) 334-5206.

SUPPLEMENTARY INFORMATION: Official Protraction Diagrams may be obtained in two digital formats: .gra files for use in ARC/INFO and .pdf files for viewing and printing in Acrobat. Copies are also available for download at http://www.mms.gov/ld/alaska.htm.

Dated: May 12, 2005.
Thomas A. Readinger,
Associate Director for Offshore Minerals Management.

[FR Doc. 05-11070 Filed 6-2-05; 8:45 am]

BILLING CODE 4310-MR-P